SURFACE TRANSPORTATION BOARD

[Docket No. AB 55 (Sub-No. 754X)]

CSX Transportation, Inc.—Discontinuance of Service Exemption—in Hamilton County, Ohio

CSX Transportation, Inc. (CSXT) filed a verified notice of exemption under 49 CFR part 1152 subpart F—Exempt Abandonments and Discontinuances of Service to discontinue service over approximately a 2.07-mile rail line on CSXT's Southern Region, Louisville Division, Cincinnati Terminal Subdivision, also known as the Mill Creek Branch, between milepost BEK 2.24 and milepost BEK 4.31 in Hamilton County, Ohio. (the Line). The Line traverses United States Postal Service Zip Codes 45214, 45225, and 45223. There are no stations on the Line.

CSXT has certified that: (1) No local traffic has moved over the Line for at least two years; (2) no overhead traffic needs to be rerouted over other lines; (3) no formal complaint filed by a user of rail service on the Line (or by a state or local government entity acting on behalf of such user) regarding cessation of service over the Line is pending either with the Surface Transportation Board (Board) or with any U.S. District Court or has been decided in favor of complainant within the two-year period; and (4) the requirements at 49 CFR 1105.12 (newspaper publication) and 49 CFR 1152.50(d)(1) (notice to governmental agencies) have been met.

As a condition to this exemption, any employee adversely affected by the discontinuance of service shall be protected under Oregon Short Line Railroad—Abandonment Portion Goshen Branch Between Firth & Ammon, in Bingham & Bonneville Counties, Idaho, 360 I.C.C. 91 (1979). To address whether this condition adequately protects affected employees, a petition for partial revocation under 49 U.S.C. 10502(d) must be filed.

Provided no formal expression of intent to file an offer of financial assistance (OFA) to subsidize continued rail service has been received, this exemption will be effective on March 26, 2016, unless stayed pending reconsideration. Petitions to stay that do not involve environmental issues and formal expressions of intent to file an OFA to subsidize continued rail service under 49 CFR 1152.27(c)(2) ¹ must be filed by March 7, 2016.² Petitions to reopen must be filed by March 16, 2016, with the Surface Transportation Board, 395 E Street SW., Washington, DC 20423-0001.

¹ Each OFA must be accompanied by the filing fee, which is currently set at $1,600. See 49 CFR 1002.2(f)(25).

² Because this is a discontinue proceeding and not an abandonment, interim trail use/rail banking and public use conditions are not appropriate. Because there will be an environmental review during abandonment, this discontinuance does not require an environmental review.

A copy of any petition filed with the Board should be sent to CSXT's representative: Louis E. Gitomer, Law Offices of Louis E. Gitomer, LLC, 600 Baltimore Avenue, Suite 301, Towson, MD 21204.

If the verified notice contains false or misleading information, the exemption is void ab initio.

Board decisions and notices are available on our Web site at “WWW.STB.DOT.GOV.”

Decided: February 22, 2016.
By the Board, Rachel D. Campbell, Director, Office of Proceedings.
Tia Delano,
Clearance Clerk.

[FR Doc. 2016-04168 Filed 2-24-16; 8:45 am]

BILLING CODE 4915-01-P